DEPARTMENT OF LABOR

Employment and Training Administration

[TA-W-64,613]

Mt. Pleasant Hosiery Mills, Inc.; Mt. Pleasant, NC; Notice of Termination of Investigation

Pursuant to Section 221 of the Trade Act of 1974, as amended, an investigation was initiated on December 8, 2008 in response to a petition filed by a company official on behalf of workers of Mt. Pleasant Hosiery Mills, Inc., Mt. Pleasant, North Carolina.

The workers are covered under an existing certification (TA-W-64,466) issued for all workers of Mt. Pleasant Hosiery Mills, Inc., Mt. Pleasant, North Carolina, which expires on December 16, 2010. Consequently, further investigation in this case would serve no purpose and the investigation has been terminated.

Signed at Washington, DC, this 18th day of December 2008.
Linda G. Poole,
Certifying Officer, Division of Trade Adjustment Assistance.

[FR Doc. E9-644 Filed 1-13-09; 8:45 am]

BILLING CODE 4510-FN-P